DEPARTMENT OF TRANSPORTATION

Federal Highway Administration

Revise Notice of Intent for an Environmental Impact Statement: North-South Corridor Study: Interstate 10 to U.S. Highway 60, Pinal County, Arizona

AGENCY: Federal Highway Administration (FHWA), United States Department of Transportation (USDOT).

ACTION: Revised Notice of Intent (NOI).

SUMMARY: A NOI to prepare an Environmental Impact Statement (EIS) was published in the Federal Register on September 20, 2010. The FHWA is issuing this notice to advise the public of a change to the environmental review process for the proposed North-South Corridor. The FHWA and the project sponsor, the Arizona Department of Transportation (ADOT), intend to use a tiered process in which a Tier 1 EIS will be prepared to evaluate potential corridor alternatives, along with a No-Action alternative, for a future project-specific alignment.

The proposed tiering approach will allow FHWA and ADOT to evaluate a range of potential corridors within the North-South Corridor Study (NSCS) area boundaries and to broadly evaluate social, economic, and environmental impacts and mitigation approaches in the Tier 1 EIS. In addition, the NSCS area will be expanded to include an adjacent State Route 24 (SR 24) corridor study resulting in an updated study area encompassing the original study area between Interstate 10 (I-10) and U.S. Highway 60 (U.S. 60) and adding the extension of SR 24 from Ironwood Drive to the North-South Corridor in Pinal County, Arizona.

The Tier 1 analysis will utilize technical data obtained thus far in the environmental review process and collect other information as required. If the Record of Decision identifies an Action (Build) corridor alternative, subsequent projects will complete a Tier 2 National Environmental Policy Act (NEPA) review where the agencies will evaluate project-level, site-specific impacts, and required mitigation and commitments.

FOR FURTHER INFORMATION CONTACT: Aryan Lirange, Senior Urban Engineer, Federal Highway Administration, 4000 N. Central Avenue, Suite 1500, Phoenix, AZ 85012, Telephone: (602) 382-8973, Email: aryan.lirange@dot.gov.

SUPPLEMENTARY INFORMATION: On September 20, 2010, at 75 FR 57327, FHWA, in cooperation with ADOT, issued an NOI to prepare an EIS on a proposed 40-mile-long project along a new route located between U.S. 60 on the north and I-10 on the south, in Pinal County, Arizona. The project is considered necessary to achieve a transportation objective identified in Pinal County's 2008 Regionally Significant Routes for Safety and Mobility. The Study would address current and future transportation needs in an area that currently exceeds existing road capacity and is expected to continue to worsen with the projected increase in traffic demand associated with regional growth. The project scope also incorporates the extension of SR 24 from Ironwood Drive to the NSCS boundary. Information and documents regarding the environmental review process will be made available for the duration of the Tier 1 EIS process on the following Web site: https://www.azdot.gov/projects/south-central/north-south-corridor-study.

The Tier 1 EIS will use all existing data including the NSCS Alternatives Selection Report completed in October 2014 and engineering, environmental, and socioeconomic data collected since the issuance of the original NOI. The FHWA intends to issue a single Final Tier 1 EIS and Record of Decision document pursuant to Fixing America's Surface Transportation Act Section 1311 requirements, unless FHWA determines statutory criteria or practicability considerations preclude issuance of a combined document.

Stakeholder and Public Involvement: Stakeholder and public outreach will continue throughout this Tier 1 EIS process to provide opportunities for agency and public input on the study. A public hearing will be held upon release of the Tier 1 Draft EIS for public and agency review.

Alternatives: Corridor alternatives with widths appropriate for the evaluation of the full range of potential impacts will be developed within the updated study area. The Tier 1 EIS will evaluate a reasonable range of “Action” corridor alternatives and the “No Action” alternative.

Environmental Review Process: The Tier 1 EIS will be developed in accordance with Council on Environmental Quality (CEQ) regulations (40 Code of Federal Regulations [CFR] part 1500 et seq.) implementing NEPA (42 U.S.C. 4321 et seq.), and FHWA regulations. The FHWA and ADOT will use a tiered process, as provided for in 40 CFR 1508.28 and in accordance with FHWA guidance, in the completion of the environmental study.

If the Record of Decision indicates that FHWA has selected one of the corridor alternatives as the environmentally preferred alternative, the evaluation of a specific highway alignment within the selected corridor would occur in a subsequent phase of the study. Subsequent Tier 2 assessment(s) would address a proposed highway alignment to be developed within the corridor alternative selected in the Tier 1 EIS, and would incorporate by reference the Tier 1 data, evaluations, and findings. The Tier 2 NEPA evaluation(s) would concentrate on site-specific issues and alternatives relevant to implementing a new highway alignment within the selected Tier 1 alternative corridor, and would identify the environmental consequences and measures necessary to mitigate environmental impacts at a site-specific level of detail.

(Catalog of Federal Domestic Assistance Program Number 20.205, Highway Research, Planning and Construction. The regulations implementing Executive Order 12372 regarding intergovernmental consultation on Federal programs and activities apply to this program.)

Authority: 23 U.S.C. 315; U.S.C. 771.123.

Issued on: September 27, 2016.
Karla S. Petty,
Arizona Division Administrator, Federal Highway Administration.

[FR Doc. 2016-23784 Filed 9-30-16; 8:45 am]

BILLING CODE 4910-22-P